DEPARTMENT OF THE INTERIOR

Bureau of Indian Affairs

[156A2100DD/AAKC001030/A0A501010.999900 253G]

American Indian Education Study Group

AGENCY: Bureau of Indian Affairs, Interior.

ACTION: Additional tribal consultation meeting; extension of comment period.

SUMMARY: The Bureau of Indian Education (BIE) published a notice in the Federal Register on March 25, 2015 (80 FR 15807), announcing the American Indian Education Study Group (Study Group) will conduct four consultation meetings with Indian tribes to obtain oral and written comments. Another Federal Register notice was published on April 17, 2015 (80 FR 21261) to announce BIE will conduct an additional consultation for a total of five consultation meetings with Indian tribes to obtain oral and written comments. This notice extends the comment deadline by 7 days and announces an additional meeting scheduled for May 15, 2015, making a total of 6 tribal consultation meetings.

DATES: The BIE will host an additional tribal consultation session on Friday, May 15, 2015. We will consider all comments received by May 22, 2015, 5:00 p.m., Eastern Daylight Time.

ADDRESSES: Submit comments by mail or hand-deliver written comments to: Ms. Jacquelyn Cheek, Special Assistant to the Director, Bureau of Indian Education, 1849 C Street NW., Mailstop 4657-MIB, Washington, DC 20240; facsimile: (202) 208-3312; or email to: IAEDTC-CMTS@bia.gov.

FOR FURTHER INFORMATION CONTACT: Ms. Jacquelyn Cheek, Special Assistant to the Director, Bureau of Indian Education, telephone: (202) 208-6983.

SUPPLEMENTARY INFORMATION: This consultation meeting is scheduled under exceptional circumstances due to the request of several tribal leaders to hold a tribal consultation session in Albuquerque, New Mexico. This complies with the Department of the Interior's Policy on Consultation with Indian Tribes.

The additional tribal consultation session on the BIE Restructuring will be held on the following date and at the following location:

Date | Time | Location
Friday, May 15, 2015 | 9:00 a.m.-12:00 p.m. (Local Time) | Isleta Resort and Casino, Seminar Room, 11000 Broadway Boulevard, Southeast, Albuquerque, New Mexico 87105.

Information for this set of consultations is available on the BIE Web site at http://www.bie.edu/consultation/index.htm.

As required by 25 U.S.C. 2011 (b), the purpose of consultation is to provide Indian tribes, school boards, parents, Indian organizations and other interested parties with an opportunity to comment on the implementation plan developed following the submittal of the American Indian Study Group's Blueprint for Reform and the Secretarial Order 3334. The consultation will cover issues raised during the previous consultation meetings and those issues currently being considered by BIE on Indian education programs.

Dated: May 7, 2015.
Lawrence S. Roberts,
Principal Deputy Assistant Secretary—Indian Affairs.

[FR Doc. 2015-11444 Filed 5-7-15; 4:15 pm]

BILLING CODE 4337-15-P